DEPARTMENT OF COMMERCE

National Oceanic and Atmospheric Administration

[Docket No. 021127290-3138-03; I.D. 033103C]

Financial Assistance for Research and Development Projects in the Gulf of Mexico and Off the U.S. South Atlantic Coastal States; Marine Fisheries Initiative (MARFIN); Correction

AGENCY: National Marine Fisheries Service (NMFS), National Oceanic and Atmospheric Administration (NOAA), Commerce.

ACTION: Notice.

SUMMARY: The National Marine Fisheries Service (NMFS) publishes this notice to correct an action entitled “Notice of Solicitation for Applications” to clarify the Eligibility Information to include “U.S. citizens”.

DATES: We must receive your application by close of business 5 p.m. eastern daylight time on June 27, 2003. Applications received after that time will not be considered for funding. The earliest start date of awards is about 200 days after the date of publication of this notice. Applicants should consider this processing time in developing requested start dates for their applications.

ADDRESSES: You can obtain an application package from, and send your completed applications(s) to: National Marine Fisheries Service, State/Federal Liaison office, 9721 Executive Center Drive N., St. Petersburg, FL 33702. You may also obtain the application package from the MARFIN Home Page at: http://caldera.sero.nmfs.gov/grants/grants.htm

FOR FURTHER INFORMATION CONTACT: Ellie Francisco Roche, Chief, State/Federal Liaison Office at 727-570-5324.

SUPPLEMENTARY INFORMATION: The National Marine Fisheries Service (NMFS) published a notice soliciting applications for financial assistance in the Federal Register of May 13, 2003 (68 FR 25578), entitled “Notice of Solicitation for Applications.” “U.S. citizens” were inadvertently omitted as eligible applicants and this document makes them eligible.

Correction

“1. Eligible applicants include U.S. citizens, institutions of higher education, hospitals, other nonprofits, commercial organizations, and state, local and Indian tribal governments. Federal agencies or institutions are not eligible. Foreign governments, organizations under the jurisdiction of foreign governments and international organizations are excluded for purpose of this solicitation since the objective of the MARFIN program is to optimize research and development benefits from U.S. marine fishery resources.”

You should consult the May 13, 2003, notice for all of the other requirements for submitting an application.

Dated: June 2, 2003.
John Oliver,
Deputy Assistant Administrator for Operations, National Marine Fisheries Service.

[FR Doc. 03-14309 Filed 6-5-03; 8:45 am]

BILLING CODE 3510-22-S